FEDERAL MARITIME COMMISSION

Ocean Transportation Intermediary License; Rescission of Order of Revocation

Notice is hereby given that the Order revoking the following licenses are being rescinded by the Federal Maritime Commission pursuant to section 19 of the Shipping Act of 1984 (46 U.S.C. chapter 409) and the regulations of the Commission pertaining to the licensing of Ocean Transportation Intermediaries, 46 CFR part 515.

License Number: 2739NF.

Name: Alison Transport Inc.

Address: 1800-A Access Road, Oceanside, NY 11572.

Order Published: FR: 2/25/11 (Volume 76, No. 38, Pg. 10594).

License Number: 019544NF.

Name: Japan Star America, Inc. dba Innex America.

Address: 550 E. Carson Plaza Drive, Suite 109, Carson, CA 90746.

Order Published: FR: 2/25/11 (Volume 76, No. 38, Pg. 10594).

License Number: 020577F.

Name: Bosmak, Inc. dba Ocean Breeze Shipping.

Address: 2501 Harford Road, Baltimore, MD 21218.

Order Published: FR: 2/09/11 (Volume 76, No. 27, Pg. 7210).

License Number: 020600N.

Name: Noel N. Griffith dba Duncan International Shipping.

Address: 1082 Rogers Avenue, Brooklyn, NY 11226.

Order Published: FR: 2/25/11 (Volume 76, No. 38, Pg. 10594).

Sandra L. Kusumoto,
Director, Bureau of Certification and Licensing.

[FR Doc. 2011-6868 Filed 3-22-11; 8:45 am]

BILLING CODE 6730-01-P